DEPARTMENT OF THE INTERIOR

Bureau of Land Management

[234 LLUTG02000 L12200000.PM00000]

Notice of Public Meetings, San Rafael Swell Recreation Area Advisory Council, Utah

AGENCY: Bureau of Land Management, Interior.

ACTION: Notice of public meetings.

SUMMARY: In accordance with the Federal Land Policy and Management Act, the Federal Advisory Committee Act, and the Federal Lands Recreation Enhancement Act, the U.S. Department of the Interior, Bureau of Land Management's (BLM) San Rafael Swell Recreation Area Advisory Council (Council) will meet as indicated below.

DATES: The Council will hold an in-person public meeting with a virtual participation option on August 31, 2023, at the Castle Valley Special Service District Building from 9:00 a.m. to 1:30 p.m. MT with public comments accepted at 12:00 p.m.

The Council will hold an in-person field tour on March 6, 2024, from 9:30 a.m. to 4:00 p.m. MT and a public meeting with a virtual participation option on March 7, 2024, at the Castle Valley Special Service District Building from 8:30 a.m. to 12:30 p.m. MT with public comments accepted at 11:30 a.m. The meetings and field tour are open to the public.

ADDRESSES: The August 31, 2023, meeting will be held at the Castle Valley Special Service District Building 20 South 100 East, Castle Dale, Utah 84513. The March 6, 2024, field tour will commence and conclude at the Castle Valley Special Service Building and the March 7, 2024, meeting will also be held at the Castle Valley Special Service District Building 20 South 100 East, Castle Dale, Utah 84513. Individuals that prefer to participate virtually in the meetings must register in advance. Registration information will be posted 2 weeks in advance of each meeting at https://www.blm.gov/get-involved/resource-advisory-council/near-you/utah/San-Rafael-Swell-RAC.

Written comments may be sent prior to each meeting either by mail to the BLM Green River District, Attn: Lance Porter, 170 South 500 West, Vernal, UT 84078, or by email: utprmail@blm.gov, with the subject line “San Rafael Swell Recreation Area Advisory Council Meeting.”

FOR FURTHER INFORMATION CONTACT: BLM Green River District Manager Lance Porter, telephone: (435) 781-4400 or email: utprmail@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act (Pub. L. 116-9) established the San Rafael Swell Recreation Area Advisory Council to advise the Secretary of the Interior, through the BLM, in planning and managing the San Rafael Swell Recreation Area. The seven-member Council represents a wide range of interests including local government, recreational users, grazing allotment permittees, conservation organizations, people with expertise in historical uses of the recreation area, and Tribal Nations.

Individuals who need special assistance, such as sign language interpretation and other reasonable accommodations, also should contact the person listed in the FOR FURTHER INFORMATION CONTACT section of this notice. Agenda items for the August 31, 2023, meeting include an overview of the San Rafael Swell Recreation Area, history of Council recommendations, planning updates, and other topics as appropriate. The March 6 field tour is to various points within the San Rafael Swell Recreation Area and will include discussions of BLM management of public lands including Areas of Critical Environmental Concern, the Special Recreation Management Area, recreation facilities, grazing, and more. Members of the public are welcome on the field tour but must provide their own transportation and meals. Individuals who plan to attend must RSVP to the BLM Green River District Office at least 2 weeks in advance of the field tour to the contact listed in the FOR FURTHER INFORMATION CONTACT section of this notice. Agenda items for the March 7, 2024, meeting include spring/summer visitor information updates, travel management plan updates, and other topics as needed.

Detailed meeting minutes will be maintained in the BLM Green River District Office and will be made available for public inspection and reproduction during regular business hours within 90 days following each meeting. Minutes will also be posted to the Council's web page at https://www.blm.gov/get-involved/resource-advisory-council/near-you/utah/San-Rafael-Swell-RAC. The amount of time for individual oral comments may be limited depending on the total number of commenters. Written comments may also be sent to the BLM Green River District Manager at the address listed in the ADDRESSES section of this notice. All comments received will be provided to the Council.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Public Disclosure of Comments: Before including your address, phone number, email address, or other personal identifying information in your comment, you should be aware that your entire comment, including your personal identifying information, may be made publicly available at any time. While you can ask in your comment to withhold your personal identifying information from public review, we cannot guarantee that we will be able to do so.

Authority: 5 U.S.C. ch. 10.

Gregory Sheehan,
State Director.

[FR Doc. 2023-16479 Filed 8-1-23; 8:45 am]

BILLING CODE 4331-25-P